DEPARTMENT OF ENERGY

Federal Energy Regulatory Commission

[Docket No. IN01-2-003]

Williams Gas Pipelines Central, Inc.; Notice of Proposed Changes in FERC Gas Tariff

May 3, 2002.

Take notice that on October 10, 2001, Williams Gas Pipelines Central, Inc. (Williams) tendered for filing as part of its FERC Gas Tariff, Original Volume No. 1 the following tariff sheets to become effective November 1, 2001:

Twelfth Revised Sheet No. 6

Nineteenth Revised Sheet No. 6A

Williams states that this filing is being made pursuant to Section III, Paragraph B of the Stipulation and Agreement approved by Commission Order dated December 26, 2000 in the above-referenced docket. This paragraph required Williams to file revised storage rates reflecting the elimination of $1,584,326 (and the removal of 16.4 million dekatherms of gas) from storage rate base.

Williams states that copies of the revised tariffs are being mailed to Williams' jurisdictional customers and interested state commissions.

Any person desiring to protest said filing should file a protest with the Federal Energy Regulatory Commission, 888 First Street, NE., Washington, DC 20426, in accordance with Section 385.211 of the Commission's Rules and Regulations. All such protests must be filed on or before May 10, 2002. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-11594 Filed 5-8-02; 8:45 am]

BILLING CODE 6717-01-P